FEDERAL MARITIME COMMISSION

Notice of Agreement Filed

The Commission hereby gives notice of the filing of the following agreement under the Shipping Act of 1984. Interested parties may submit comments on this agreement to the Secretary, Federal Maritime Commission, Washington, DC 20573, within ten days of the date this notice appears in the Federal Register. Copies of agreements are available through the Commission's Office of Agreements (202-523-5793 or tradeanalysis@fmc.gov).

Agreement No.: 011346-017.

Title: Israel Trade Conference Agreement.

Parties: A.P. Moller-Maersk A/S and Zim Integrated Shipping Services, Ltd.

Filing Party: Marc J. Fink, Esq.; Sher & Blackwell LLP; 1850 M Street, NW.; Suite 900; Washington, DC 20036.

Synopsis: The amendment deletes Farrell Lines, Inc. as a party to the agreement.

By order of the Federal Maritime Commission.
Dated: August 31, 2006.
Karen V. Gregory,
Assistant Secretary.

[FR Doc. E6-14740 Filed 9-5-06; 8:45 am]

BILLING CODE 6730-01-P